DEPARTMENT OF THE INTERIOR

National Park Service

Concession Contract Negotiations; Public Notice

AGENCY: National Park Service, Interior.

ACTION: Public notice.

SUMMARY: Pursuant to the terms of existing concession permits, with the exception of construction on National Park Service lands, public notice is hereby given that the National Park Service intends to provide visitor services under the authority of a temporary concession contract with a term of up to one year from the date of permit expirations.

SUPPLEMENTARY INFORMATION: The permit listed below has been extended to the maximum allowable under 36 CFR 51.23. Under the provisions of the current concessions permit, with one exception, and pending the development and public solicitation of a prospectus for a new concession permit, the National Park Service authorizes continuation of visitor services under a temporary concession contract for a period of up to one year from the expiration of the current concession permit. The exception precludes construction on National Park Service lands, regardless of whether the current permit authorizes such activity, the temporary contract does not affect any rights with respect to selection for award of a new concession contract.

Concessioner ID No. | Concessioner name | Park
BICA007 | LuCon Corporation | Bighorn Canyon National Recreation Area.
CANY022 | O.A.R.S. Canyonlands, Inc. | Canyonlands National Park.
CANY024 | Niskanen & Jones, Inc. | Canyonlands National Park.
CANY025 | NAVTEC Expeditions, Inc. | Canyonlands National Park.
CANY026 | Niskanen & Jones, Inc. | Canyonlands National Park.
CANY027 | 3-D River Visions, Inc. | Canyonlands National Park.
DINO010 | Faron & Wayne Wilkins | Dinosaur National Park.
GLAC004A | Glacier Wilderness Guides, Inc. | Glacier National Park.
GLAC006 | Glacier Wilderness Guides, Inc. | Glacier National Park.
GLAC010 | Edward Desrosier (Sun Tours) | Glacier National Park.
GLCA021 | Banner Health System | Glen Canyon National Recreation Area.
GOSP001 | McFarland Distributing | Golden Spike National Historic Site.
GRCA033 | Grand Canyon Railway, Inc. | Grand Canyon National Park.
GRTE034 | Wilderness Ventures | Grand Teton National Park.
GRTE037 | Trail Creek Ranch | Grand Teton National Park.
GRTE038 | Teton Valley Ranch | Grand Teton National Park.
GRTE049 | Diamond Cross Ranch | Grand Teton National Park.
JODR003 | Cache Creek Snowmobile Tours | John D. Rockefeller, Jr. Memorial Parkway.
JODR004 | Heart 6 Ranch Snowmobile Tours | John D. Rockefeller, Jr. Memorial Parkway.
JODR005 | Old Faithful Snowmobile Tours | John D. Rockefeller, Jr. Memorial Parkway.
JODR006 | High Country Snowmobile Tours | John D. Rockefeller, Jr. Memorial Parkway.
JODR007 | Goosewing Ranch Snowmobile Safaris | John D. Rockefeller, Jr. Memorial Parkway.
JODR008 | Best Adventures, Inc. | John D. Rockefeller, Jr. Memorial Parkway.
JODR009 | Jackson Hole Snowmobile Tours | John D. Rockefeller, Jr. Memorial Parkway.
JODR010 | National Park Adventures | John D. Rockefeller, Jr. Memorial Parkway.
JODR012 | Cowboy Village Resort at Togwotee | John D. Rockefeller, Jr. Memorial Parkway.
JODR013 | Rocky Mountain Snowmobile Tours | John D. Rockefeller, Jr. Memorial Parkway.
JODR014 | Yellowstone Snowmobile Tours | John D. Rockefeller, Jr. Memorial Parkway.
LIBI001 | Institute for Micro-Business Development | Little Bighorn Battlefield National Monument.
ROMO003 | Andrews, Bicknell & Crothers LLC | Rocky Mountain National Park.
YELL102 | Beardsley Outfitting | Yellowstone National Park.
YELL103 | Triangle X Ranch | Yellowstone National Park.
YELL104 | Horse Creek Ranch | Yellowstone National Park.
YELL105 | Bear Paw Outfitters | Yellowstone National Park.
YELL106 | Jackson Hole Llamas | Yellowstone National Park.
YELL107 | Wyoming Wilderness Outfitters | Yellowstone National Park.
YELL108 | Bleu Sky Pack Station, Inc. | Yellowstone National Park.
YELL110 | Diamond J. Ranch | Yellowstone National Park.
YELL113 | 7D Ranch | Yellowstone National Park.
YELL114 | Wilderness Connection | Yellowstone National Park.
YELL115 | Gary Fales Outfitting | Yellowstone National Park.
YELL117 | Mountain Trail | Yellowstone National Park.
YELL118 | Yellowstone Mountain Guides | Yellowstone National Park.
YELL120 | Slough Creek Outfitters | Yellowstone National Park.
YELL121 | Yellowstone Llamas | Yellowstone National Park.
YELL122 | Sheep Mesa Outfitters | Yellowstone National Park.
YELL123 | Castle Creek Outfitters | Yellowstone National Park.
YELL124 | Jack's Horses | Yellowstone National Park.
YELL125 | Big Bear Lodge | Yellowstone National Park.
YELL126 | Heimer Outfitting | Yellowstone National Park.
YELL127 | Medicine Lake Outfitters | Yellowstone National Park.
YELL130 | Skyline Guest Ranch | Yellowstone National Park.
YELL131 | Hell's A Roarin' | Yellowstone National Park.
YELL132 | Nine Quarter Circle Ranch | Yellowstone National Park.
YELL134 | John Henry Lee Outfitters | Yellowstone National Park.
YELL137 | Wilderness Pack Trips | Yellowstone National Park.
YELL138 | Rendezvous Outfitters | Yellowstone National Park.
YELL139 | Triple Tree Ranch | Yellowstone National Park.
YELL140 | Black Otter Guide Service | Yellowstone National Park.
YELL141 | Lost Fork Ranch | Yellowstone National Park.
YELL144 | Lone Mountain Ranch | Yellowstone National Park.
YELL145 | Crescent B Outfitters | Yellowstone National Park.
YELL146 | Bar Z Guest Ranch | Yellowstone National Park.
YELL147 | Farvalley Ranch | Yellowstone National Park.
YELL148 | Teton Ridge Ranch | Yellowstone National Park.
YELL149 | T Lazy T Outfitters | Yellowstone National Park.
YELL156 | Two Ocean Pass Ranch/Outfitters | Yellowstone National Park.
YELL157 | Beartooth Plateau | Yellowstone National Park.
YELL158 | Wilderness Trails | Yellowstone National Park.
YELL159 | Ron Dube's Wilderness Adventure | Yellowstone National Park.
YELL162 | Grizzly Ranch | Yellowstone National Park.
YELL164 | Gallatin Way Ranch | Yellowstone National Park.
YELL165 | Gunsel Horse Adventures | Yellowstone National Park.
YELL166 | Elkhorn Ranch | Yellowstone National Park.
YELL168 | Llamas of West Yellowstone | Yellowstone National Park.
YELL169 | Shoshone Lodge Outfitters | Yellowstone National Park.
YELL170 | Diamond K Outfitters | Yellowstone National Park.
YELL300 | Yellowstone Expeditions | Yellowstone National Park.
YELL301 | Loomis Enterprises | Yellowstone National Park.
YELL302 | Yellowstone Tour and Travel | Yellowstone National Park.
YELL303 | Yellowstone Alpen Guides | Yellowstone National Park.
YELL304 | International Leisure Hosts | Yellowstone National Park.

EFFECTIVE DATE: January 2, 2003.

FOR FURTHER INFORMATION CONTACT: Cynthia Orlando, Concession Program Manager, National Park Service, Washington, DC 20240, Telephone, 202/513-7156.

Dated: October 31, 2002.
Richard G. Ring,
Associate Director, Administration, Business Practices and Workforce Development.

[FR Doc. 02-30925 Filed 12-5-02; 8:45 am]

BILLING CODE 4310-70-M